SMALL BUSINESS ADMINISTRATION

[Disaster Declaration #11707 and #11708]

North Dakota Disaster Number ND-00016

AGENCY: U.S. Small Business Administration.

ACTION: Amendment 5.

SUMMARY: This is an amendment of the Presidential declaration of a major disaster for the State of North Dakota (FEMA—1829—DR), dated 04/10/2009.

Incident: Severe storms and flooding.

Incident Period: 03/13/2009 and continuing through 08/10/2009.

DATES: Effective Date: 08/10/2009.

Physical Loan Application Deadline Date: 08/10/2009.

EIDL Loan Application Deadline Date: 01/11/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of North Dakota, dated 04/10/2009 is hereby amended to establish the incident period for this disaster as beginning 03/13/2009 and continuing through 08/10/2009.

All other information in the original declaration remains unchanged.

(Catalog of Federal Domestic Assistance Numbers 59002 and 59008)

James E. Rivera,
Acting Associate Administrator for Disaster Assistance.

[FR Doc. E9-19632 Filed 8-14-09; 8:45 am]

BILLING CODE 8025-01-P